DEPARTMENT OF ENERGY

Federal Energy Regulatory Commission

[Docket No. EG02-41-000, et al.]

FPL Energy Marcus Hook, L.P., et al.; Electric Rate and Corporate Regulation Filings

January 22, 2002.

Take notice that the following filings have been made with the Commission. Any comments should be submitted in accordance with Standard Paragraph E at the end of this notice.

1. FPL Energy Marcus Hook, L.P.

[Docket No. EG02-41-000]

Take notice that on January 17, 2002, FPL Energy Marcus Hook, L.P., with its principal office at 700 Universe Boulevard, Juno Beach, FL 33408, filed with the Federal Energy Regulatory Commission (Commission) a notice of withdrawal of its application for determination of exempt wholesale generator status.

Comment Date: February 7, 2002.

2. Southern Company Services, Inc.

[Docket No. ER01-602-013]

Take notice that on January 16, 2002, Southern Company Services, Inc. (SCS) as agent for Alabama Power Company, Georgia Power Company, Gulf Power Company, Mississippi Power Company and Savannah Electric and Power Company, tendered an additional sheet to Southern Operating Companies First Revised Rate Schedule FERC No. 78 as a supplement to a filing made on November 16, 2001 in order to make such rate schedule Order No. 614 compliant.

Comment Date: February 6, 2002.

3. American Transmission Systems, Incorporated

[Docket No. ER02-132-001]

Take notice that on January 17, 2002, in compliance with the Commission's December 18, 2001 Order in this docket (American Transmission Systems, Incorporated, 97 FERC ¶61,273 (2001)), American Transmission Systems, Inc. (ATSI) tendered for filing a revised Generator Interconnection and Operating Agreement between ATSI and Fremont Energy Center, L.L.C. (Fremont). The Agreement has been redesignated First Revised Service Agreement No. 312 under the ATSI Open Access Transmission Tariff, FERC Electric Tariff, Original Volume No. 1.

Copies of this filing have been served on the Ohio and Pennsylvania utility commissions and Fremont.

Comment Date: February 7, 2002.

4. New York Independent System Operator, Inc.

[Docket No. ER02-194-001]

Take notice that on January 16, 2002, the New York Independent System Operator, Inc. (NYISO) submitted to the Federal Energy Regulatory Commission (Commission) a compliance filing in the above-captioned proceeding. The NYISO has served a copy of this filing upon all parties that are included on the Commission's service list in this proceeding and to the electric utility regulatory agencies in New York and Pennsylvania.

Comment Date: February 6, 2002.

5. Mirant Delta, LLC, Mirant Potrero, LLC

[Docket No. ER02-198-002]

Take notice that on January 17, 2002 Mirant Delta, LLC and Mirant Potrero, LLC (collectively, Mirant) submitted to the Federal Energy Regulatory Commission (Commission) an amended filing in compliance with Commission's directive.

Comment Date: February 7, 2002.

6. Progress Energy Inc. on Behalf of Florida Power Corporation

[Docket No. ER02-610-001]

Take notice that on January 16, 2002, Florida Power Corporation (FPC) amended the filing originally made in this docket.

A copy of the filing was served upon the Florida Public Service Commission and the North Carolina Utilities Commission.

Comment Date: February 6, 2002.

7. American Transmission Company LLC

[Docket No. ER02-624-000]

Take notice that on January 16, 2002, American Transmission Company LLC (ATCLLC) tendered for filing a Letter of Clarification related to its December 28, 2001 filing of OATT revisions to accommodate retail access in Michigan, for which ATCLLC requested an effective date of January 1, 2002.

Comment Date: February 6, 2002.

8. Delmarva Power & Light Company

[Docket No. ER02-634-002]

Take notice that on January 17, 2002, Delmarva Power & Light Company (Delmarva) tendered for filing with the Federal Energy Regulatory Commission (Commission) a revised cover sheet and a revised page 1 to the execution date of an executed Interconnection Agreement between Delmarva and the Delaware Municipal Electric Corporation (DEMEC).

Delmarva respectfully requests that the Interconnection Agreement with the revised cover sheet and revised page 1 become effective on December 31, 2001, the date on which Delmarva originally requested the Interconnection Agreement become effective. Copies of the filing were served upon the Delaware Public Service Commission, the Maryland Public Service Commission and the Virginia State Corporation Commission.

Comment Date: February 7, 2002.

9. Illinois Power Company

[Docket No. ER02-775-000]

Take notice that on January 16, 2002, Illinois Power Company (Illinois Power), filed with the Federal Energy Regulatory Commission (Commission) a Third Revised Network Integration Transmission Service Agreement entered into by Illinois Power and Dynegy Power Marketing, Inc., pursuant to Illinois Power's Open Access Transmission Tariff.

Illinois Power requests an effective date of January 1, 2002, for the Agreement and accordingly seeks a waiver of the Commission's notice requirement. Illinois Power states that a copy of this filing has been sent to the customer.

Comment Date: February 6, 2002.

10. Entergy Services, Inc.

[Docket No. ER02-776-000]

Take notice that on January 16, 2002, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-To-Point Transmission Service Agreement and a Short-Term Firm Point-To-Point Transmission Service Agreement both between Entergy Services, Inc., as agent for the Entergy Operating Companies, and AIG Energy Trading, Inc.

Comment Date: February 6, 2002.

11. Progress Energy on Behalf of Carolina Power & Light Company

[Docket No. ER02-777-000]

Take notice that on January 16, 2002, Progress Energy Service Company (Progress Energy), on behalf of Carolina Power & Light Company (CP&L), tendered for filing a Service Agreement for Network Contract Demand Transmission Service with Florida Power & Light Company (FP&L). Service to FP&L will be in accordance with the terms and conditions of the Open Access Transmission Tariff filed on behalf of CP&L.

Progress Energy is requesting an effective date of January 1, 2002 for this Service Agreement.

A copy of the filing was served upon the North Carolina Utilities Commission, the South Carolina Public Service Commission and the Florida Public Service Commission.

Comment Date: February 6, 2002.

12. Tampa Electric Company

[Docket No. ER02-778-000]

Take notice that on January 16, 2002, Tampa Electric Company (Tampa Electric) tendered for filing a service agreement with Aquila Energy Marketing Corporation (Aquila) under Tampa Electric's market-based sales tariff.

Tampa Electric proposes that the service agreement be made effective on January 8, 2002, and gives notice of its cancellation as of February 1, 2002.

Copies of the filing have been served on Aquila and the Florida Public Service Commission.

Comment Date: February 6, 2002.

13. Virginia Electric and Power Company

[Docket No. ER02-779-000]

Take notice that on January 16, 2002, Virginia Electric and Power Company (Dominion Virginia Power or the Company) tendered for filing a Service Agreement for Network Integration Transmission Service and Network Operating Agreement by Dominion Virginia Power to Dominion Retail, Inc., designated as Service Agreement No. 349, in accordance with Part III of the Company's Open Access Transmission Tariff, FERC Electric Tariff, Second Revised Volume No. 5, to Eligible Purchasers effective June 7, 2000.

Dominion Virginia Power requests an effective date of January 1, 2002, as requested by the Customer.

Copies of the filing were served upon Dominion Retail, Inc., the Virginia State Corporation Commission, and the North Carolina Utilities Commission.

Comment Date: February 6, 2002.

14. Virginia Electric and Power Company

[Docket No. ER02-780-000]

Take notice that on January 16, 2002, Virginia Electric and Power Company (Dominion Virginia Power or the Company) tendered for filing a Service Agreement for Network Integration Transmission Service and Network Operating Agreement by Dominion Virginia Power to Pepco Energy Services, Inc., designated as Service Agreement No. 350, in accordance with Part III of the Company's Open Access Transmission Tariff, FERC Electric Tariff, Second Revised Volume No. 5, to Eligible Purchasers effective June 7, 2000.

Dominion Virginia Power requests an effective date of January 1, 2002, as requested by the Customer.

Copies of the filing were served upon Pepco Energy Services, Inc., the Virginia State Corporation Commission, and the North Carolina Utilities Commission.

Comment Date: February 6, 2002.

15. Virginia Electric and Power Company

[Docket No. ER02-781-000]

Take notice that on January 16, 2002, Virginia Electric and Power Company (Dominion Virginia Power or the Company) tendered for filing a Service Agreement for Network Integration Transmission Service and Network Operating Agreement by Dominion Virginia Power to Dominion Energy Direct Sales, Inc., designated as Service Agreement No. 351, in accordance with Part III of the Company's Open Access Transmission Tariff, FERC Electric Tariff, Second Revised Volume No. 5, to Eligible Purchasers effective June 7, 2000.

Dominion Virginia Power requests an effective date of January 1, 2002, as requested by the Customer.

Copies of the filing were served upon Dominion Energy Direct Sales, Inc., the Virginia State Corporation Commission, and the North Carolina Utilities Commission.

Comment Date: February 6, 2002.

16. PacifiCorp

[Docket No. ER02-787-000]

Take notice that on January 16, 2002, PacifiCorp tendered for filing with the Federal Energy Regulatory Commission (Commission), a Notice of Cancellation of Rate Schedule FERC No. 243 for the Storage Agreement entered on September 5, 1985 between Snohomish Public Utility Department and PacifiCorp.

Copies of this filing were served on the Washington Utilities and Transportation Commission and the Public Utility Commission of Oregon.

Comment Date: February 6, 2002.

17. Progress Energy on Behalf of Carolina Power & Light Company

[Docket No. ER02-790-000]

Take notice that on January 17, 2002, Progress Energy Service Company, on behalf of Carolina Power & Light Company (CP&L), tendered for filing a Service Agreement for Network Contract Demand Transmission Service with Tampa Electric Company (Tampa). Service to Tampa will be in accordance with the terms and conditions of the Open Access Transmission Tariff filed on behalf of CP&L.

CP&L is requesting an effective date of January 1, 2002 for this Service Agreement.

A copy of the filing was served upon the North Carolina Utilities Commission, the South Carolina Public Service Commission and the Florida Public Service Commission.

Comment Date: February 7, 2002.

18. Wolverine Power Supply Cooperative, Inc.

[Docket No. ER02-791-000]

Take notice that on January 17, 2002, Wolverine Power Supply Cooperative, Inc., submitted for filing four revised Amended and Consolidated Wholesale Power Contracts (Contract) between Wolverine Power Supply Cooperative, Inc. (Wolverine) and: Cherryland Electric Cooperative (Cherryland), HomeWorks Tri-County Electric Cooperative (HomeWorks), Great Lakes Energy Cooperative (Great Lakes), and Presque Isle Electric and Gas Co-op, Inc. (Presque Isle), respectively.

Wolverine requests an effective date of March 15, 2002, or 60 days after this filing, for these Contracts.

Wolverine states that a copy of this filing has been served upon its member cooperatives: Cherryland Electric Cooperative, Great Lakes Energy, Presque Isle Electric & Gas Cooperative, HomeWorks Tri-County Electric Cooperative, Wolverine Power Marketing Cooperative, and the Michigan Public Service Commission.

Comment Date: February 7, 2002.

19. Ameren Energy, Inc. on Behalf of Union Electric Company d/b/a AmerenUE and Ameren Energy Generating Company

[Docket No. ER02-792-000]

Take notice that on January 18, 2002, Ameren Energy, Inc. (Ameren Energy), on behalf of Union Electric Company d/b/a AmerenUE and Ameren Energy Generating Company (collectively, the Ameren Parties), pursuant to section 205 of the Federal Power Act, 16 U.S.C. 824d, and the market rate authority granted to the Ameren Parties, submitted for filing umbrella power sales service agreements under the Ameren Parties' market rate authorizations entered into The Detroit Edison Company.

Ameren Energy seeks Commission acceptance of these service agreements effective December 20, 2001.

Copies of this filing were served on the public utilities commissions of Illinois and Missouri and the respective counter party.

Comment Date: February 8, 2002.

20. Lyon Rural Electric Cooperative

[Docket No. ER02-793-000]

Take notice that on January 17, 2002, Lyon Rural Electric Cooperative (Lyon) submitted for filing under section 205 of the Federal Power Act a change in rate regarding its Rate Schedule FERC No. 1, the Agreement for Purchase Of Power and Maintenance of System Between Lyon Rural Electric Cooperative and Town of Larchwood, Iowa. The rate change, designated First Revised Rate Schedule FERC No. 1, provides for a change in the components of the existing rate such that the resulting overall rate is increased approximately $10,000.00 per year over the existing rate. The proposed rate sheets replace existing Rate Schedule FERC No. 1 and all supplements thereto.

Lyon asks the rate change to become effective March 1, 2002.

A copy of Lyon's filing is available during normal business hours at their corporate offices in Rock Rapids, Iowa.

Comment Date: February 7, 2002.

21. Xcel Energy Services Inc.

[Docket No. ER02-794-000]

Take notice that on January 18, 2002, Xcel Energy Services Inc. (XES), on behalf of Southwestern Public Service Company (Southwestern), submitted for filing a Transaction Agreement between Southwestern and Public Service Company of New Mexico. XES requests that this agreement become effective on January 1, 2002.

Comment Date: February 8, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 02-1991 Filed 1-25-02; 8:45 am]

BILLING CODE 6717-01-P